NUCLEAR REGULATORY COMMISSION

Sunshine Federal Register Notice

Agency Holding the Meetings: Nuclear Regulatory Commission.

Date: Weeks of February 14, 21, 28, March 7, 14, 21, 2005.

Place: Commissioners' Conference Room, 11555 Rockville Pike, Rockville, Maryland.

Status: Public and closed.

Matters to be Considered:

Weeks of February 14, 2005

Tuesday, February 15, 2005

9:30 a.m. Briefing on Office of Nuclear Material Safety and Safeguards Programs, Performance, and Plans—Waste Safety (Public Meeting) (Contact: Jessica Shin, 301-415-8117).

This meeting will be Webcast live at the Web address— http://www.nrc.gov.

Week of February 21, 2005—Tentative

Tuesday, February 22, 2005

9:30 a.m. Briefing on Status of Office of the Chief Information Officer (OCIO) Programs, Performance, and Plans (Public Meeting) (Contact: Patricia Wolfe, 301-415-6031).

This meeting will be Webcast live at the Web address— http://www.nrc.gov.

1:30 p.m. Briefing on Emergency Preparedness Program Initiatives (Closed—Ex. 1).

Wednesday, February 23, 2005

9:30 a.m. Briefing on Status of Office of Chief Financial Officer (OCFO) Programs, Performance, and Plans (Public Meeting) (Contact: Edward New, 301-415-5646).

This meeting will be Webcast live at the Web address— http://www.nrc.gov.

Thursday, February 24, 2005.

1 p.m. Briefing on Nuclear Fuel Performance (Public Meeting) (Contact: Frank Akstulewicz, 301-415-1136).

This meeting will be Webcast live at the Web address— http://www.nrc.gov.

Week of February 28, 2005—Tentative

There are no meetings scheduled for the Week of February 28, 2005.

Week of March 7, 2005—Tentative

Monday, March 7, 2005

10 a.m. Briefing on Office of Nuclear Material Safety and Safeguards Programs, Performance, and Plans—Materials Safety (Public Meeting) (Contact: Shamica Walker, 301-415-5142).

This meeting will be Webcast live at the Web address— http://www.nrc.gov.

Week of March 14, 2005—Tentative

Wednesday, March 16, 2005

9:30 a.m. Meeting with Advisory Committee on Nuclear Waste (ACNW) (Public Meeting) (Contact: John Larkins, 301-415-7360).

This meeting will be Webcast live at the Web address— http://www.nrc.gov.

Weeks of March 21, 2005—Tentative

There are no meetings scheduled for the Week of March 21, 2005.

The schedule for Commission meetings is subject to change on short notice. To verify the status of meetings call (recording)—(301) 415-1292. Contact person for more information: Dave Gamberoni, (301) 415-1651.

Additional Information: “discussion of Security Issues (Closed—Ex. 1).” originally scheduled for Thursday, February 24, 2005, at 9 a.m. was canceled.

The NREC Commission Meeting Schedule can be found on the Internet at: http://www.nrc.gov/what-we-do/policy-making/schedule.html.

The NRC provides reasonable accommodations to individuals with disability where appropriate. If you need a reasonable accommodation to participate in these public meetings, or need this meeting notice or the transcript or other information from the public meetings in another format (e.g. braille, large print), please notify the NRC's Disability Program Coordinator, August Spector, at 301-415-7080, TDD: 301-415-2100, or by e-mail at aks@nrc.gov. Determinations on requests for reasonable accommodations will be made on a case-by-case basis.

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: February 10, 2005.
Dave Gamberoni,
Office of the Secretary.

[FR Doc. 05-2952 Filed 2-11-05; 8:45 am]

BILLING CODE 7590-01-M